OFFICE OF THE UNITED STATES TRADE REPRESENTATIVE

Generalized System of Preferences (GSP): Notice of Acceptance of a Country Practices Petition on Thailand; Notice of Schedule for Public Comments and a Hearing on Certain Country Practice Reviews

AGENCY: Office of the United States Trade Representative.

ACTION: Notice and request for submissions.

SUMMARY: The GSP Subcommittee of the Trade Policy Staff Committee (TPSC) announces that it has accepted for review a country practices petition regarding worker rights in Thailand submitted as part of the GSP Annual Review. This notice sets forth the schedule for public comments and a public hearing on the newly accepted petition on Thailand, as well as the ongoing GSP country practice reviews regarding Ecuador, Fiji, Georgia, Iraq, Niger, and Uzbekistan. This notice also announces the closure of the country practices review of worker rights in the Philippines without change to that country's GSP trade benefits.

FOR FURTHER INFORMATION CONTACT: Contact Aimee Larsen, Director for GSP, Office of the United States Trade Representative, 600 17th Street NW., Washington, DC 20508. The telephone number is (202) 395-2974 and the email address is ALarsen@ustr.eop.gov.

DATES: The GSP regulations (15 CFR part 2007) provide the schedule of dates for conducting an annual review unless otherwise specified in a Federal Register notice. The schedule for the review of the country practices reviews cited above follows.

January 4, 2016: Deadline for submission of pre-hearing briefs and requests to appear at the January 14-15, 2016 public hearing; submissions must be received by 5:00 p.m.

January 14-15, 2016: The GSP Subcommittee of the Trade Policy Staff Committee (TPSC) will convene a two-day public hearing on the country practices reviews cited above at 1724 F Street NW., Washington, DC 20508, beginning at 9:30 a.m. each day.

February 12, 2016: Deadline for submission of post-hearing briefs, which must be received by 5:00 p.m.

SUPPLEMENTARY INFORMATION: The GSP program provides for the duty-free importation of designated articles when imported from designated BDCs. The GSP program is authorized by Title V of the Trade Act of 1974 (19 U.S.C. 2461, et seq.), as amended (the “1974 Act”), and is implemented in accordance with Executive Order 11888 of November 24, 1975, as modified by subsequent Executive Orders and Presidential Proclamations.

Country Practices Reviews

The status of country practices reviews considered as part of the 2015/2016 GSP Annual Review is described in the list of Active and Closed Country Practices Reviews, which is available on the USTR GSP Web site at https://ustr.gov/issue-areas/trade-development/preference-programs/generalized-system-preference-gsp/current-review-0. This list includes previously accepted country practices petitions. Country practices petitions accepted for review in previous years that continue to be under review include those regarding Ecuador, Fiji, Georgia, Indonesia, Iraq, Niger, Ukraine, and Uzbekistan.

The U.S. Trade Representative (USTR), drawing on the advice of the TPSC, has accepted for review a country practices petition submitted as part of the 2015/2016 GSP Annual Review on Thailand regarding worker rights. In addition, the USTR, drawing on the advice of the TPSC, has decided to close the country practices review case USTR-2013-0006 regarding worker rights in the Philippines in view of progress made by the government of the Philippines in addressing worker rights issues in that country.

Notice of Public Hearing

The GSP Subcommittee of the TPSC will hold a two-day hearing on Thursday, January 14 and Friday, January 15, 2016 beginning at 9:30 a.m. each day, for the newly accepted country practices petition regarding worker rights in Thailand, as well as to receive information regarding recent developments pertinent to the ongoing country practices reviews regarding worker rights and/or child labor in Fiji, Georgia, Iraq, Niger, and Uzbekistan, and arbitral awards in Ecuador.

The hearing will be held at 1724 F Street NW., Washington, DC 20508 and will be open to the public. A transcript of the hearing will be made available on http://www.regulations.gov within approximately two weeks of the hearing.

All interested parties wishing to make an oral presentation at the hearing must submit, following the “Requirements for Submissions” set out below, the name, address, telephone number, and email address, if available, of the witness(es) representing their organization by 5 p.m., January 4, 2016. Requests to present oral testimony must be accompanied by a written brief or summary statement, in English, and also must be received by 5 p.m., January 4, 2016. Oral testimony before the GSP Subcommittee will be limited to five-minute presentations that summarize or supplement information contained in briefs or statements submitted for the record. Post-hearing briefs or statements will be accepted if they conform with the regulations cited below and are submitted, in English, by 5 p.m., February 12, 2016. Parties not wishing to appear at the public hearing may submit pre-hearing and post-hearing briefs or comments by the aforementioned deadlines.

The GSP Subcommittee strongly encourages submission of all post-hearing briefs or statements by the February 12, 2016 deadline in order to receive timely consideration in the GSP Subcommittee's deliberation on the subject reviews. However, if there are new developments or information that parties wish to share with the GSP Subcommittee after this date, the regulations.gov dockets will remain open. Comments, letters, or other submissions related to the subject country practices reviews must be posted to the http://regulations.gov docket in order to be considered by the GSP Subcommittee.

Requirements for Submissions

All submissions in response to this notice must be submitted in English by the applicable deadlines set forth in this notice and conform to the GSP regulations set forth at 15 CFR part 2007, except as modified below. These regulations are available on the USTR Web site at https://ustr.gov/sites/default/files/USTR-Regulations-Pertaining-Eligibility-GSP-Program-15-CFR-Part-2007_0.pdf. Any person or party making a submission is strongly advised to review the GSP regulations and the GSP Guidebook, available at: https://ustr.gov/sites/default/files/GSP%20Guidebook%20October%202015%20Final.pdf.

To ensure their timely and expeditious receipt and consideration, submissions in response to this notice must be submitted electronically via http://www.regulations.gov using the appropriate country-specific docket number(s) listed below.

Fiji (worker rights): USTR-2013-0012;

Ecuador (arbitral awards): USTR-2013-0013;

Georgia (worker rights): USTR-2013-0009;

Iraq (worker rights): USTR-2013-0004;

Niger (worker rights and child labor): USTR-2013-0005;

Thailand (worker rights): USTR-2015-0018;

Uzbekistan (worker rights): USTR-2013-0007.

Hand-delivered submissions will not be accepted.

To make a submission using http://www.regulations.gov, enter the country-specific docket number in the “Search for” field on the home page and click “Search.” The site will provide a search-results page listing all documents associated with this docket. Find a reference to this notice by selecting “Notice” under “Document Type” in the “Filter Results by” section on the left side of the screen and click on the link entitled “Comment Now.” The http://www.regulations.gov Web site offers the option of providing comments by filling in a “Type Comment” field or by attaching a document using the “Upload file(s)” field. The GSP Subcommittee prefers that submissions be provided in an attached document. At the beginning of the submission, or on the first page (if an attachment), please note that the submission is in response to this Federal Register notice and provides comments on the GSP country practice review regarding [relevant country]. Submissions should not exceed 30 single-spaced, standard letter-size pages in 12-point type, including attachments. Any data attachments to the submission should be included in the same file as the submission itself, and not as separate files.

Each submitter will receive a submission tracking number upon completion of the submissions procedure at http://www.regulations.gov. The tracking number will be the submitter's confirmation that the submission was received into http://www.regulations.gov. The confirmation should be kept for the submitter's records. USTR is not able to provide technical assistance for the Web site. Documents not submitted in accordance with these instructions may not be considered in this review. If an interested party is unable to provide submissions as requested, please contact the GSP Program at USTR to arrange for an alternative method of transmission.

Business Confidential Submissions

An interested party requesting that information contained in a submission be treated as business confidential information must certify that such information is business confidential and would not customarily be released to the public by the submitter. Confidential business information must be clearly designated as such. The submission must be marked “BUSINESS CONFIDENTIAL” at the top and bottom of the cover page and each succeeding page, and the submission should indicate, via brackets, the specific information that is confidential. Additionally, “Business Confidential” must be included in the “Type Comment” field. For any submission containing business confidential information, a non-confidential version must be submitted separately (i.e., not as part of the same submission with the confidential version), indicating where confidential information has been redacted. The non-confidential version will be placed in the docket and open to public inspection.

Public Viewing of Review Submissions

Submissions in response to this notice, except for information granted “business confidential” status under 15 CFR 2003.6, will be available for public viewing pursuant to 15 CFR 2007.6 at http://www.regulations.gov upon completion of processing, usually within two weeks of the relevant due date or date of the submission. Such submissions may be viewed by entering the country-specific docket number in the search field at: http://www.regulations.gov.

William D. Jackson,
Deputy Assistant U.S. Trade Representative for the Generalized System of Preferences, Office of the U.S. Trade Representative.

[FR Doc. 2015-30065 Filed 11-24-15; 8:45 am]

BILLING CODE 3290-F6-P